DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Capital Metropolitan Transportation Authority

[Docket Number FRA-2006-25040]

Capital Metropolitan Transportation Authority (CMTA), located in Austin, TX, seeks a Conditional Test Waiver of compliance from certain parts of Title 49 of the CFR as part of its ongoing efforts to test and eventually commission new non-FRA compliant diesel multiple units for its start-up commuter rail service linking the City of Leander with downtown Austin, TX.

CMTA is seeking a permanent waiver of compliance from the provisions of 49 CFR Part 219, Drug and Alcohol; Part 221, Rear End Marking Devices; Part 223, Safety Glazing Standards; Part 225, Accident and Incident Reporting; Part 229, Railroad Locomotive Safety Standards; Part 231, Railroad Safety Appliance Standards; Part 238, Passenger Equipment Safety Standards; Part 239, Passenger Train Emergency Preparedness; and Part 240, Qualification and Certification of Locomotive Engineers. In order to begin revenue operation in the fall of 2008, CMTA would like this Conditional Test Waiver in order to meet the system commissioning and testing requirements of the Texas Department of Transportation (TxDOT) System Safety and Security Certification process. Lastly, CMTA posits this Conditional Test Waiver is needed to successfully complete system integration, vehicle acceptance, training, and equipment familiarization. The testing will be conducted consistent with the operating principles of temporal separation set forth in the original petition for permanent waiver. Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2006-25040) and must be submitted to the Docket Clerk, DOT Docket Management Facility, 1200 New Jersey Avenue, SE., West Building Ground Floor, Room W12-140, Washington, DC 20590.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on July 30, 2007.
Grady C. Cothen, Jr.,
Deputy Associate Administrator for Safety Standards and Program Development.

[FR Doc. E7-15157 Filed 8-2-07; 8:45 am]

BILLING CODE 4910-06-P